ENVIRONMENTAL PROTECTION AGENCY

40 CFR Part 52

[AZ 086-0043; FRL-7029-5]

Partial Removal of Direct Final Rule Revising the Arizona State Implementation Plan, Maricopa County Environmental Services Department

AGENCY: Environmental Protection Agency (EPA).

ACTION: Partial removal of direct final rule.

SUMMARY: EPA is removing direct final approval of a revision to the Arizona State Implementation Plan (SIP) that was published on May 24, 2001 (66 FR 28666).

EFFECTIVE DATE: August 10, 2001.

FOR FURTHER INFORMATION CONTACT: Yvonne Fong, Rulemaking Office (Air-4), U.S. Environmental Protection Agency, Region IX, (415) 744-1199.

SUPPLEMENTARY INFORMATION: On May 24, 2001 (66 FR 28685), EPA proposed to approve the following rules into the California and Arizona State Implementation Plans (SIP).

Local agency | Rule # | Rule title
Antelope Valley | 1171 | Solvent Cleaning Operations.
Maricopa County | 344 | Automotive Windshield Washer Fluid.

On the same day (66 FR 28666), EPA also published a direct final rule approving these rules into their respective SIPs, and providing a 30 day public comment period and explained that if we received adverse comments, we would withdraw the relevant direct final action.

We did receive adverse comments, and are therefore removing the direct final approval of Maricopa County Environmental Services Department (MCESD) Rule 344, Automotive Windshield Washer Fluid. We are not opening an additional comment period. At a later date, we intend to respond to comments and finalize action on this rule based on the May 24, 2001 proposal. The other rule listed above is not affected by this removal and is incorporated into the SIP as of the effective date of the May 24, 2001 direct final action.

List of Subjects in 40 CFR Part 52

Environmental protection, Air pollution control, Incorporation by reference, Intergovernmental relations, Ozone, Reporting and recordkeeping requirements, Volatile organic compounds.

Dated: July 18, 2001.
Jane Diamond,
Acting Regional Administrator, Region IX.

Subpart F of part 52, Chapter I, Title 40 of the Code of Federal Regulations is amended as follows:

PART 52—[AMENDED]

Subpart F—California

1. The authority citation for part 52 continues to read as follows:

Authority: 42 U.S.C. 7401 et seq.

2. Section 52.120 is amended by removing and reserving paragraph (c)(94)(i)(E) to read as follows:

§ 52.120 Identification of plan.

* * * * *

(c) * * *

(94) * * *

(i) * * *

(E) [Reserved]

* * * * *

[FR Doc. 01-20042 Filed 8-9-01; 8:45 am]

BILLING CODE 6560-50-P